SMALL BUSINESS ADMINISTRATION

National Small Business Development Center Advisory Board; Public Meeting

The U.S. Small Business Administration National Small Business Development Center Advisory Board will hold a public meeting on Monday, March 5, 2001, from 9 a.m. to 5 p.m. at the Crystal City Gateway Hotel, Crystal City, Virginia to discuss such matters as may be presented by members, staff of the U.S. Small Business Administration, or others present.

For further information, please write or call Ellen Thrasher, U.S. Small Business Administration, 409 Third Street, SW., Fourth Floor, Washington, DC 20416. Telephone number (202) 205-6817.

Nancyellen Gentile,
Committee Management Officer.

[FR Doc. 01-2872 Filed 2-1-01; 8:45 am]

BILLING CODE 8025-01-P